DEPARTMENT OF THE INTERIOR

National Park Service

[NPS-WASO-NAGPRA-NPS0026952; PPWOCRADN0-PCU00RP14.R50000]

Notice of Inventory Completion: Wisconsin Historical Society, Madison, WI

AGENCY: National Park Service, Interior.

ACTION: Notice.

SUMMARY: The Wisconsin Historical Society has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the Wisconsin Historical Society. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the Wisconsin Historical Society at the address in this notice by January 4, 2019.

ADDRESSES: Jennifer Kolb, Wisconsin Historical Society, 816 State St., Madison, WI 53706, telephone (608) 264-6434, email Jennifer.Kolb@wisconsinhistory.org.

SUPPLEMENTARY INFORMATION: Notice is here given in accordance with the Native American Graves Protection and Repatriation Act (NAGPRA), 25 U.S.C. 3003, of the completion of an inventory of human remains and associated funerary objects under the control of the Wisconsin Historical Society, Madison, WI. The human remains and associated funerary objects were removed from seven sites in Crawford County, WI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Wisconsin Historical Society professional staff in consultation with representatives of the Forest County Potawatomi Community, Wisconsin; Ho-Chunk Nation of Wisconsin; Lac du Flambeau Band of Lake Superior Chippewa Indians of the Lac du Flambeau Reservation of Wisconsin; Menominee Indian Tribe of Wisconsin; and the Upper Sioux Community, Minnesota, hereafter referred to as “The Consulted Tribes.”

History and Description of the Remains

In 1987, human remains representing, at minimum two individuals were removed from the Karnopp-Eggleston Mound Group (47-CR-0005) in Crawford County, WI. The human remains were transferred to the Wisconsin Historical Society's Burial Sites Preservation Office (BSPO) from the Office of the Iowa State Archaeologist. While skeletal analysis completed in 1987 determined that the human remains represent a single juvenile additional analysis in 2015 determined the presence of a second individual, a newborn. The Iowa State Archaeologist did not have any documentation as to how these human remains were excavated or disturbed. No known individuals were identified. No associated funerary objects are present.

In 1992, human remains representing, at minimum, two individuals were removed from the Ferryville Implement Company I site (47-CR-0123) in Crawford County, WI. Situated on a terrace over the Mississippi River, the site is a multicomponent habitation area used as a village or campsite from the Late Archaic to the Oneota periods (3000 B.C. to ca. A.D. 1650). Human remains representing one adult and one juvenile of indeterminate sex were excavated by the Mississippi Valley Archaeology Center; the exact location of the trenches is unknown. The BSPO accepted the remains in 1992. No known individuals were identified. No associated funerary objects are present.

At an unknown date, human remains representing, at minimum, one individual were removed from Pintz I Site (47-CR-0138) in Crawford County, WI. These human remains, representing one individual of indeterminate sex and age, were discovered when a conical mound was disturbed by a combination of looters, rodent holes, and erosion. The human remains were reported by James Theler of the Mississippi Valley Archaeology Center in 1989 and sent to the BSPO that same year. No known individuals were identified. No associated funerary objects are present.

At an unknown date in the 1930s, human remains representing, at minimum, two individuals were removed from Fort Shelby (47-CR-0249) in Crawford County, WI. The human remains were recovered by Leland Cooper of Hamline University and donated by Hamline University in Minnesota to the Wisconsin Historical Society in the 1930s. The human remains were determined to belong to a juvenile of indeterminate sex and an adult male. No known individuals were identified. No associated funerary objects are present.

In 1988, human remains representing, at minimum, 16 individuals were removed from the Tarbox (47-CR-0441) site in Crawford County, WI. The human remains were encountered during a septic system construction project on the property of Mr. and Mrs. Tarbox. Because the project endangered the preservation of the human remains, the Tarboxs opted to have them removed by the Burial Sites Preservation Office. The human remains belong to two adult males, six probable adult females, two adults of indeterminate sex, and six juveniles of indeterminate sex. No known individuals were identified. The five associated funerary objects are two groups of ceramic sherds, one copper bead, one quartzite projectile point, and one copper awl.

In 1988, human remains representing, at minimum, one individual was removed from the Schmitz Burial site (47-CR-0442) in Crawford County, WI. A portion of the burial was disturbed during a septic system construction project on the property of Mr. Ron Schmitz, and because the remainder of the burial was in jeopardy of being destroyed, Mr. Schmitz opted to have it removed by the Burial Sites Preservation Office. The human remains belong to one adult male. No known individuals were identified. No associated funerary objects are present.

At an unknown date, human remains representing, at minimum, one individual were removed from the Charm Burial site (47-CR-0592) in Crawford County, WI. The human remains were collected by an unknown individual from an unknown location along Highway 35, near the city of Charme, and were donated by an unknown individual to the Wisconsin Historical Society in 1934. They were determined to belong to a juvenile of indeterminate sex. Copper staining is present on several of the bone fragments. No known individuals were identified. No associated funerary objects are present.

Determinations Made by the Wisconsin Historical Society

Officials of the Wisconsin Historical Society have determined that:

• Pursuant to 25 U.S.C. 3001(9), the human remains described in this notice are Native American based on Wisconsin Historical Society records, burial location, archeological context, oral histories, and skeletal analysis.

• Pursuant to 25 U.S.C. 3001(9), the human remains described in this notice represent the physical remains of 25 individuals of Native American ancestry.

• Pursuant to 25 U.S.C. 3001(3)(A), the five objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission or the Court of Federal Claims, the land from which the Native American human remains and associated funerary objects were removed is the aboriginal land of the Ho-Chunk Nation of Wisconsin and the Winnebago Tribe of Nebraska.

• Treaties, Acts of Congress, or Executive Orders, indicate that the land from which the Native American human remains and associated funerary objects were removed is the aboriginal land of the Bad River Band of the Lake Superior Tribe of the Chippewa Indians of the Bad River Reservation, Wisconsin; Bay Mills Indian Community, Michigan; Chippewa Cree Indians of the Rocky Boy's Reservation, Montana (previously listed as the Chippewa-Cree Indians of the Rocky Boy's Reservation, Montana); Grand Traverse Band of Ottawa and Chippewa Indians, Michigan; Ho-Chunk Nation of Wisconsin; Keweenaw Bay Indian Community, Michigan; Lac Courte Oreilles Band of Lake Superior Chippewa Indians of Wisconsin; Lac du Flambeau Band of Lake Superior Chippewa Indians of the Lac du Flambeau Reservation of Wisconsin; Lac Vieux Desert Band of the Lake Superior Chippewa Indians, Michigan; Minnesota Chippewa Tribe, Minnesota (Six component reservations: Bois Forte Band (Nett Lake); Fond du Lac Band; Grand Portage Band; Leech Lake Band; Mille Lacs Band; White Earth Band); Ottawa Tribe of Oklahoma; Red Cliff Band of Lake Superior Chippewa Indians of Wisconsin; Red Lake Band of Chippewa Indians, Minnesota; Saginaw Chippewa Indian Tribe of Michigan; Sault Ste. Marie Tribe of Chippewa Indians, Michigan; Sokaogon Chippewa Community, Wisconsin; St. Croix Chippewa Indians of Wisconsin; Turtle Mountain Band of Chippewa Indians of North Dakota; and the Winnebago Tribe of Nebraska, hereafter referred to as “The Aboriginal Land Tribes.”

• Pursuant to 43 CFR 10.11(c)(1), the disposition of the human remains and associated funerary objects may be to The Aboriginal Land Tribes.

Additional Requestors and Disposition

Representatives of any Indian Tribe or Native Hawaiian organization not identified in this notice that wish to request transfer of control of these human remains and associated funerary objects should submit a written request with information in support of the request to Jennifer Kolb, Wisconsin Historical Society, 816 State St., Madison, WI 53706, telephone (608) 264-6434, email Jennifer.Kolb@wisconsinhistory.org, by January 4, 2019. After that date, if no additional requestors have come forward, transfer of control of the human remains and associated funerary objects to The Aboriginal Land Tribes may proceed.

The Wisconsin Historical Society is responsible for notifying The Aboriginal Land Tribes and The Consulted Tribes that this notice has been published.

Dated: November 7, 2018.
Melanie O'Brien,
Manager, National NAGPRA Program.

[FR Doc. 2018-26439 Filed 12-4-18; 8:45 am]

BILLING CODE 4312-52-P